DEPARTMENT OF DEFENSE

Office of the Secretary

Meeting of the Defense Advisory Committee on Women in the Services (DACOWITS)

AGENCY: Department of Defense.

ACTION: Notice.

SUMMARY: Pursuant to Section 10(a), Public Law 92-463, as amended, notice is hereby given of a forthcoming meeting of the Defense Advisory Committee on Women in the Services (DACOWITS). The purpose of the meeting is for the Committee to review and approve the 2011 Report. The Committee will also receive briefings on the Women in Services Review report, assignment policies, female engagement teams, suicides, and retention. Additionally, the Committee will discuss 2012 topics and installation visits. The meeting is open to the public, subject to the availability of space.

Interested persons may submit a written statement for consideration by the Defense Advisory Committee on Women in the Services. Individuals submitting a written statement must submit their statement to the Point of Contact listed in the FOR FURTHER INFORMATION CONTACT section no later than 5 p.m., Friday, December 2, 2011. If a written statement is not received by Friday, December 2, 2011, prior to the meeting, which is the subject of this notice, then it may not be provided to or considered by the Defense Advisory Committee on Women in the Services until its next open meeting. The Designated Federal Officer will review all timely submissions with the Defense Advisory Committee on Women in the Services Chairperson and ensure they are provided to the members of the Defense Advisory Committee on Women in the Services. If members of the public are interested in making an oral statement, a written statement should be submitted as detailed in this SUMMARY section. After reviewing the written comments, the Chairperson and the Designated Federal Officer will determine who of the requesting persons will be able to make an oral presentation of their issue during an open portion of this meeting or at a future meeting. Determination of who will be making an oral presentation is at the sole discretion of the Committee Chair and the Designated Federal Officer and will depend on time available and if the topics are relevant to the Committee's activities. Two minutes will be allotted to persons desiring to make an oral presentation. Oral presentations by members of the public will be permitted only on Wednesday, December 7, 2011 from 2:15 p.m. to 3 p.m. in front of the full Committee. Number of oral presentations to be made will depend on the number of requests received from members of the public.

DATES: December 6, 2011, 8:30 a.m.-4:45 p.m.; December 7, 2011, 1 p.m.-3 p.m.

ADDRESSES: Hilton Washington Dulles, 13869 Park Center Rd., Herndon, VA 20171.

FOR FURTHER INFORMATION CONTACT: Mr. Robert Bowling or DACOWITS Staff at 4000 Defense Pentagon, Room 2C548A, Washington, DC 20301-4000. Robert.bowling@osd.mil. Telephone (703) 697-2122. Fax (703) 614-6233.

SUPPLEMENTARY INFORMATION: Due to difficulties beyond the control of the Defense Advisory Committee on Women in the Services or its Designated Federal Officer, the Committee was unable to file a Federal Register notice announcing its December 6-7, 2011 meeting within the 15-calendar day period. The Advisory Committee Management Officer for the Department of Defense, pursuant to 41 CFR 102-3.150(b), waives the 15-calendar day notification requirement.

Meeting Agenda

Tuesday, December 6, 2011, 8:30 a.m.-4:45 p.m.

—Welcome, introductions, and announcements.

—2011 Annual Report review and approval.

—Briefing on Women in Service Review report.

—Army briefings on assignment policies, female engagement teams, and cultural support teams.

—Defense Manpower Data Center and Veteran Affairs briefings on active duty and veteran suicides.

—Defense Manpower Data Center and DoD briefings on retention.

Wednesday, December 7, 2011, 1 p.m.-3 p.m.

—2012 topics and installation visit discussion.

—Public Forum.

Dated: November 18, 2011.
Aaron Siegel,
Alternate OSD Federal Register Liaison Officer, Department of Defense.

[FR Doc. 2011-30302 Filed 11-23-11; 8:45 am]

BILLING CODE 5001-06-P